DEPARTMENT OF HOMELAND SECURITY

Federal Emergency Management Agency

44 CFR Part 64

[Docket ID FEMA-2008-0020; Internal Agency Docket No. FEMA-8073]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region III
Pennsylvania:
Bellefonte, Borough of, Centre County | 420257 | March 30, 1973, Emerg; February 2, 1977, Reg; May 7, 3009, Susp. | May 4, 2009 | May 7, 3009.
Benner, Township of, Centre County | 421460 | April 7, 1975, Emerg; February 2, 1977, Reg; May 7, 3009, Susp. | ......do* | Do.
Boggs, Township of, Centre County | 421193 | September 16, 1975, Emerg; August 15, 1989, Reg; May 7, 3009, Susp. | ......do | Do.
Burnside, Township of, Centre County | 421461 | April 17, 1975, Emerg; January 17, 1986, Reg; May 7, 3009, Susp. | ......do | Do.
Collge, Township of, Centre County | 420259 | April 19, 1973, Emerg; July 4, 1989, Reg; May 7, 3009, Susp. | ......do | Do.
Curtin, Township of, Centre County | 421462 | November 15, 1974, Emerg; June 5, 1989, Reg; May 7, 3009, Susp. | ......do | Do.
Ferguson, Township of, Centre County | 420260 | May 17, 1973, Emerg; July 17, 1989, Reg; May 7, 3009, Susp. | ......do | Do.
Gregg, Township of, Centre County | 421194 | April 29, 1975, Emerg; November 2, 1984, Reg; May 7, 3009, Susp. | ......do | Do.
Haines, Township of, Centre County | 420261 | March 30, 1973, Emerg; August 1, 1978, Reg; May 7, 3009, Susp. | ......do | Do.
Halfmoon, Township of, Centre County | 421463 | April 30, 1975, Emerg; October 13, 1978, Reg; May 7, 3009, Susp. | ......do | Do.
Harris, Township of, Centre County | 420262 | June 6, 1973, Emerg; June 5, 1989, Reg; May 7, 3009, Susp. | ......do | Do.
Howard, Borough of, Centre County | 420263 | May 13, 1975, Emerg; August 3, 1989, Reg; May 7, 3009, Susp. | ......do | Do.
Howard, Township of, Centre County | 421464 | February 9, 1976, Emerg; August 3, 1989, Reg; May 7, 3009, Susp. | ......do | Do.
Huston, Township of, Centre County | 421195 | September 15, 1975, Emerg; June 5, 1989, Reg; May 7, 3009, Susp. | ......do | Do.
Liberty, Township of, Centre County | 421196 | April 13, 1976, Emerg; June 5, 1989, Reg; May 7, 3009, Susp. | ......do | Do.
Marion, Township of, Centre County | 421465 | July 29, 1975, Emerg; November 2, 1984, Reg; May 7, 3009, Susp. | ......do | Do.
Miles, Township of, Centre County | 421197 | March 10, 1975, Emerg; December 4, 1985, Reg; May 7, 3009, Susp. | ......do | Do.
Milesburg, Borough of, Centre County | 420264 | June 17, 1975, Emerg; February 2, 1977, Reg; May 7, 3009, Susp. | ......do | Do.
Millheim, Borough of, Centre County | 420265 | July 3, 1975, Emerg; June 5, 1989, Reg; May 7, 3009, Susp. | ......do | Do.
Patton, Township of, Centre County | 420266 | June 6, 1973, Emerg; February 19, 1986, Reg; May 7, 3009, Susp. | ......do | Do.
Penn, Township of, Centre County | 421466 | September 24, 1974, Emerg; October 17, 1989, Reg; May 7, 3009, Susp. | ......do | Do.
Philipsburg, Borough of, Centre County | 420267 | August 15, 1974, Emerg; August 15, 1990, Reg; May 7, 3009, Susp. | ......do | Do.
Port Matilda, Borough of, Centre County | 420268 | January 7, 1975, Emerg; November 3, 1989, Reg; May 7, 3009, Susp. | ......do | Do.
Potter, Township of, Centre County | 421467 | July 7, 1975, Emerg; February 5, 1986, Reg; May 7, 3009, Susp. | ......do | Do.
Rush, Township of, Centre County | 421468 | February 11, 1975, Emerg; November 16, 1990, Reg; May 7, 3009, Susp. | ......do | Do.
Snow Shoe, Borough of, Centre County | 421459 | February 18, 1976, Emerg; August 10, 1979, Reg; May 7, 3009, Susp. | ......do | Do.
Snow Shoe, Township of, Centre County | 421198 | February 18, 1976, Emerg; June 19, 1989, Reg; May 7, 3009, Susp. | ......do | Do.
Spring, Township of, Centre County | 420269 | October 13, 1972, Emerg; April 15, 1977, Reg; May 7, 3009, Susp. | ......do | Do.
State College, Borough of, Centre County | 420270 | May 25, 1973, Emerg; June 30, 1976, Reg; May 7, 3009, Susp. | ......do | Do.
Taylor, Township of, Centre County | 421469 | June 24, 1981, Emerg; January 3, 1986, Reg; May 7, 3009, Susp. | ......do | Do.
Union, Township of, Centre County | 421470 | July 23, 1975, Emerg; July 17, 1989, Reg; May 7, 3009, Susp. | ......do | Do.
Unionville, Borough of, Centre County | 420272 | November 11, 1975, Emerg; November 3, 1989, Reg; May 7, 3009, Susp. | ......do | Do.
Walker, Township of, Centre County | 421471 | September 16, 1974, Emerg; July 17, 1989, Reg; May 7, 3009, Susp. | ......do | Do.
Worth, Township of, Centre County | 421472 | December 8, 1975, Emerg; August 15, 1989, Reg; May 7, 3009, Susp. | ......do | Do.
Virginia: Virginia Beach, City of, Independent City | 515531 | September 11, 1970, Emerg; April 23, 1971, Reg; May 7, 3009, Susp. | ......do | Do.
Region IV
Florida:
Perry, City of, Taylor County | 120303 | January 30, 1975, Emerg; May 17, 1982, Reg; May 7, 3009, Susp. | ......do | Do.
Taylor County, Unincorporated Areas | 120302 | April 25, 1975, Emerg; November 16, 1983, Reg; May 7, 3009, Susp. | ......do | Do.
Georgia:
Gray, City of, Jones County | 130237 | May 29, 1975, Emerg; May 21, 1982, Reg; May 7, 3009, Susp. | ......do | Do.
Jones County, Unincorporated Areas | 130434 | November 10, 1987, Emerg; September 1, 1990, Reg; May 7, 3009, Susp. | ......do | Do.
North Carolina: Macon County, Unincorporated Areas | 370150 | November 21, 2000, Emerg; June 1, 2001, Reg; May 7, 3009, Susp. | ......do | Do.
Tennessee:
Anderson County, Unincorporated Areas | 470217 | August 5, 1975, Emerg; September 5, 1984, Reg; May 7, 3009, Susp. | ......do | Do.
Atoka, Town of, Tipton County | 470419 | NA, Emerg; May 8, 2001, Reg; May 7, 3009, Susp. | ......do | Do.
Calhoun, City of, McMinn County | 470232 | July 31, 1975, Emerg; July 3, 1986, Reg; May 7, 3009, Susp. | ......do | Do.
Chester County, Unincorporated Areas | 470348 | November 17, 1994, Emerg; September 28, 2007, Reg; May 7, 3009, Susp. | ......do | Do.
Clinton, City of, Anderson County | 470001 | July 28, 1972, Emerg; July 18, 1977, Reg; May 7, 3009, Susp. | ......do | Do.
Henderson, City of, Chester County | 470029 | July 25, 1975, Emerg; March 18, 1986, Reg; May 7, 3009, Susp. | ......do | Do.
Lake City, Town of, Anderson County | 475436 | October 23, 1970, Emerg; February 26, 1971, Reg; May 7, 3009, Susp. | ......do | Do.
Maury County, Unincorporated Areas | 470123 | November 29, 1985, Emerg; November 3, 1989, Reg; May 7, 3009, Susp. | ......do | Do.
Munford, City of, Tipton County | 470422 | NA, Emerg; June 30, 2003, Reg; May 7, 3009, Susp. | ......do | Do.
Norris, City of, Anderson County | 470003 | March 11, 1975, Emerg; June 25, 1976, Reg; May 7, 3009, Susp. | ......do | Do.
Oak Ridge, City of, Anderson, Roane Counties | 475441 | December 17, 1971, Emerg; October 27, 1972, Reg; May 7, 3009, Susp. | ......do | Do.
Tipton County, Unincorporated Areas | 470340 | July 3, 1975, Emerg; April 2, 1991, Reg; May 7, 3009, Susp. | ......do | Do.
Region V
Illinois:
Cairo, City of, Alexander County | 170004 | November 5, 1971, Emerg; February 1, 1978, Reg; May 7, 3009, Susp. | ......do | Do.
East Cape Girardeau, Village of, Alexander County | 170916 | May 5, 1976, Emerg; December 4, 1985, Reg; May 7, 3009, Susp. | ......do | Do.
Menard County, Unincorporated Areas | 170505 | May 1, 1975, Emerg; September 2, 1988, Reg; May 7, 3009, Susp. | ......do | Do.
Petersburg, City of, Menard County | 170506 | August 11, 1975, Emerg; September 18, 1975, Reg; May 7, 3009, Susp. | ......do | Do.
Tallula, Village of, Menard County | 170803 | June 3, 1976, Emerg; May 25, 1978, Reg; May 7, 3009, Susp. | ......do | Do.
Michigan:
Baltimore, Township of, Barry County | 260666 | March 12, 1976, Emerg; July 18, 1985, Reg; May 7, 3009, Susp. | ......do | Do.
Castleton, Township of, Barry County | 260641 | September 26, 1975, Emerg; May 17, 1988, Reg; May 7, 3009, Susp. | ......do | Do.
Hastings, City of, Barry County | 260314 | January 22, 1976, Emerg; February 18, 1981, Reg; May 7, 3009, Susp. | ......do | Do.
Hastings, Township of, Barry County | 260648 | November 19, 1975, Emerg; June 15, 1981, Reg; May 7, 3009, Susp. | ......do | Do.
Homer, Township of, Midland County | 260989 | May 14, 1997, Emerg; NA, Reg; May 7, 3009, Susp. | ......do | Do.
Hope, Township of, Barry County | 260681 | June 7, 1976, Emerg; February 6, 1984, Reg; May 7, 3009, Susp. | ......do | Do.
Irving, Township of, Barry County | 260354 | January 31, 1991, Emerg; January 1, 1992, Reg; May 7, 3009, Susp. | ......do | Do.
Johnstown, Township of, Barry County | 260355 | July 15, 1976, Emerg; April 2, 1986, Reg; May 7, 3009, Susp. | ......do | Do.
Maple Grove, Township of, Barry County | 260644 | October 30, 1975, Emerg; February 1, 1986, Reg; May 7, 3009, Susp. | ......do | Do.
Midland, City of, Midland, Bay Counties | 260140 | January 20, 1975, Emerg; June 15, 1984, Reg; May 7, 3009, Susp. | ......do | Do.
Midland, Township of, Midland County | 260857 | April 12, 2007, Emerg; NA, Reg; May 7, 3009, Susp. | ......do | Do.
Nashville, Village of, Barry County | 260902 | July 29, 1992, Emerg; December 6, 1999, Reg; May 7, 3009, Susp. | ......do | Do.
Rutland, Township of, Barry County | 260656 | February 13, 1976, Emerg; August 19, 1986, Reg; May 7, 3009, Susp. | ......do | Do.
Thornapple, Township of, Barry County | 260630 | August 26, 1975, Emerg; February 1, 1986, Reg; May 7, 3009, Susp. | ......do | Do.
Ohio:
Bowerston, Village of, Harrison County | 390257 | August 8, 1975, Emerg; March 4, 1987, Reg; May 7, 3009, Susp. | ......do | Do.
Harrison County, Unincorporated Areas | 390255 | July 6, 1976, Emerg; NA, Reg; May 7, 3009, Susp. | ......do | Do.
Jewett, Village of, Harrison County | 390259 | June 17, 1975, Emerg; July 4, 1988, Reg; May 7, 3009, Susp. | ......do | Do.
Scio, Village of, Harrison County | 390261 | May 30, 1975, Emerg; March 4, 1987, Reg; May 7, 3009, Susp. | ......do | Do.
Region VII
Missouri:
Morgan County, Unincorporated Areas | 290244 | February 28, 1997, Emerg; December 1, 2001, Reg; May 7, 3009, Susp. | ......do | Do.
Versailles, City of, Morgan County | 290247 | November 11, 1975, Emerg; September 18, 1985, Reg; May 7, 3009, Susp. | ......do | Do.
Nebraska:
Dodge County, Unincorporated Areas | 310068 | April 18, 1975, Emerg; August 17, 1981, Reg; May 7, 3009, Susp. | ......do | Do.
Hooper, City of, Dodge County | 310379 | March 15, 1976, Emerg; August 4, 1987, Reg; May 7, 3009, Susp. | ......do | Do.
Scribner, City of, Dodge County | 310071 | May 30, 1975, Emerg; November 1, 1979, Reg; May 7, 3009, Susp. | ......do | Do.
Winslow, Village of, Dodge County | 310410 | March 7, 1975, Emerg; December 4, 1979, Reg; May 7, 3009, Susp. | ......do | Do.
Region IX
California:
Mill Valley, City of, Marin County | 060177 | January 21, 1972, Emerg; January 3, 1979, Reg; May 7, 3009, Susp. | ......do | Do.
Tehama County, Unincorporated Areas | 065064 | April 23, 1971, Emerg; June 1, 1982, Reg; May 7, 3009, Susp. | ......do | Do.
* do =Ditto.
Code for reading third column: Emerg.—Emergency; Reg.—Regular; Susp.—Suspension.

Dated: April 23, 2009.
Michael K. Buckley,
Acting Assistant Administrator, Mitigation Directorate, Department of Homeland Security, Federal Emergency Management Agency.

[FR Doc. E9-10602 Filed 5-6-09; 8:45 am]

BILLING CODE 9110-12-P